DEPARTMENT OF JUSTICE

Notice of Lodging of Proposed Consent Decree Under the Comprehensive Environmental Response, Compensation, and Liability Act

On May 31, 2022, the Department of Justice lodged a proposed Consent Decree with the United States District Court for the District of New Jersey in United States v. Cornell Dubilier Electronics, Inc., Civil Action No. 2:22-cv-03245. The proposed Consent Decree resolves the United States' and State of New Jersey's cost recovery and natural resource damages claims against Cornell Dubilier Electronics, Inc. (“CDE”) under Section 107(a) of the Comprehensive Environmental Response, Compensation, and Liability Act of 1980 (“CERCLA”), 42 U.S.C. 9601 et seq., relating to the Woodbrook Road Dump Superfund Site (“Site”), located in South Plainfield, New Jersey.

In the proposed Consent Decree, CDE, an ability-to-pay party, agrees to pay $4 million, plus applicable interest. CDE's $4 million payment will be split between the United States and New Jersey. Specifically, New Jersey will receive $373,500 to resolve its cost recovery claims, the United States Department of Interior and the State will receive $265,000 for natural resource damages, and the United States Environmental Protection Agency will receive $3,361,500 for the Site's cleanup. The Consent Decree includes covenants not sue under Sections 106 and 107 of CERCLA.

Relatedly, on May 31, 2022, the United States and Commonwealth of Massachusetts lodged a $4 million ability-to-pay supplemental consent decree in United States and Commonwealth of Massachusetts v. AVX Corp. et al., Civil Action Nos. 83-3882-Y and 83-3889 (D. Mass.), relating to the New Bedford Harbor Superfund Site in Bristol County, Massachusetts. This settlement, along with the proposed Consent Decree, resolve CDE's liability for response costs in connection with both the New Bedford Harbor Site and Woodbrook Road Site, respectively.

The publication of this notice opens a period for public comment on the Consent Decree. Comments should be addressed to the Assistant Attorney General, Environment and Natural Resources Division, and should refer to United States v. Cornell Dubilier Electronics, Inc., Civil Action No. 2:22-cv-03245, D.J. Ref. No. 90-11-3-11024. All comments must be submitted no later than sixty (60) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees. We will provide a paper copy of the proposed modification upon written request and payment of reproduction costs. Please mail your request and payment to: Consent Decree Library, U.S. DOJ—ENRD, P.O. Box 7611, Washington, DC 20044-7611.

Please enclose a check or money order for $8.50 (25 cents per page reproduction cost) payable to the United States Treasury.

Henry S. Friedman,
Assistant Section Chief, Environmental Enforcement Section, Environment and Natural Resources Division.

[FR Doc. 2022-12066 Filed 6-3-22; 8:45 am]

BILLING CODE 4410-15-P